DEPARTMENT OF HEALTH AND HUMAN SERVICES

Centers for Disease Control and Prevention

Disease, Disability, and Injury Prevention and Control Special Emphasis Panel (SEP): Occupational Health and Safety Research, Program Announcement 04038 and Small Grants in Occupational Safety and Health, Program Announcement 04021

In accordance with section 10(a)(2) of the Federal Advisory Committee Act (Pub. L. 92-463), the Centers for Disease Control and Prevention (CDC) announces the following meeting:

Name: Disease, Disability, and Injury Prevention and Control Special Emphasis Panel (SEP): Occupational Health and Safety Research, Program Announcement 04038 and Small Grants in Occupational Safety and Health, Program Announcement 04021.

Time and Date: 1 p.m.-3 p.m., January 13, 2006 (Closed).

Place: National Institute for Occupational Safety and Health, CDC, 1600 Clifton Road, NE., Mailstop E-74, Atlanta, GA 30333 Telephone Number (404) 498-2582.

Status: The meeting will be closed to the public in accordance with provisions set forth in section 552b(c)(4) and (6), Title 5 U.S.C., and the Determination of the Director, Management Analysis and Services Office, CDC, pursuant to Public Law 92-463.

Matters To Be Considered: The meeting will include the review, discussion, and evaluation of applications received in response to: Occupational Health and Safety Research, Program Announcement 04038 and Small Grants in Occupational Safety and Health, Program Announcement 04021.

Contact Person For More Information: Charles Rafferty, Ph.D., Scientific Review Administrator, National Institute for Occupational Safety and Health, CDC, 1600 Clifton Road, NE., Mailstop E-74, Atlanta, GA 30333, Telephone Number (404) 498-2582. The Director, Management Analysis and Services Office, has been delegated the authority to sign Federal Register notices pertaining to announcements of meetings and other committee management activities, for both CDC and the Agency for Toxic Substances and Disease Registry.

Dated: December 13, 2005.
Alvin Hall,
Director, Management Analysis and Services Office, Centers for Disease Control and Prevention.

[FR Doc. E5-7550 Filed 12-19-05; 8:45 am]

BILLING CODE 4163-18-P